DEPARTMENT OF COMMERCE

International Trade Administration

[A-549-820]

Prestressed Concrete Steel Wire Strand From Thailand: Final Results of Antidumping Duty Administrative Review; 2020

AGENCY: Enforcement and Compliance, International Trade Administration, Department of Commerce.

SUMMARY: The U.S. Department of Commerce (Commerce) determines that The Siam Industrial Wire Co. Ltd. (SIW) made sales of subject merchandise in the United States at prices below normal value during the period of review (POR) January 1, 2020, through December 31, 2020.

DATES: Applicable August 8, 2022.

FOR FURTHER INFORMATION CONTACT: Samantha Kinney or Brian Smith, AD/CVD Operations, Office VIII, Enforcement and Compliance, International Trade Administration, U.S. Department of Commerce, 1401 Constitution Avenue NW, Washington, DC 20230; telephone: (202) 482-2285 or (202) 482-1766, respectively.

SUPPLEMENTARY INFORMATION:

Background

On February 4, 2022, Commerce published the Preliminary Results of the 2020 administrative review of the antidumping duty order on prestressed concrete steel wire strand (PC strand) from Thailand.¹ We invited interested parties to comment on the Preliminary Results. On May 31, 2022, Commerce extended the deadline for the final results of this administrative review until August 3, 2022.² For a summary of the events that occurred since the Preliminary Results, see the Issues and Decision Memorandum.³ Commerce conducted this review in accordance with section 751 of the Tariff Act of 1930, as amended (the Act).

¹ See Prestressed Concrete Steel Wire Strand from Thailand: Preliminary Results of Antidumping Duty Administrative Review; 2020, 87 FR 6509 (February 4, 2022) (Preliminary Results), and accompanying Preliminary Decision Memorandum.

² See Memorandum, “Prestressed Concrete Steel Wire Strand from Thailand: Extension of Deadline for Final Results of Antidumping Duty Administrative Review; 2020,” dated May 31, 2022.

³ See Memorandum, “Issues and Decision Memorandum for the Final Results of the 2020 Antidumping Duty Administrative Review: Prestressed Concrete Steel Wire Strand from Thailand,” dated concurrently with, and hereby adopted by, this notice (Issues and Decision Memorandum).

Scope of the Order ⁴

⁴ See Notice of Amended Final Determination of Sales at Less Than Fair Value and Antidumping Duty Order: Prestressed Concrete Steel Wire Strand from Thailand, 69 FR 4111 (January 28, 2004) (Order).

The merchandise covered by this Order is PC strand from Thailand. A full description of the scope of the Order is contained in the Issues and Decision Memorandum.

Analysis of Comments Received

We addressed all issues raised in the case and rebuttal briefs filed in this administrative review in the Issues and Decision Memorandum. A list of the issues addressed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on a review of the record and the comments received from interested parties, we made no changes to the Preliminary Results.

Final Results of Review

We determine that the following weighted-average dumping margin exists for the period January 1, 2020, through December 31, 2020:

Exporter/producer | Weighted-average dumping margin (percent)
The Siam Industrial Wire Co. Ltd | 0.98

Disclosure

Normally, Commerce will disclose the calculations performed in connection with the final results of review to parties to the proceeding in accordance with 19 CFR 351.224(b). However, because Commerce made no adjustments to the margin calculation methodology used in the Preliminary Results, there are no additional calculations to disclose for the final results of this review.

Assessment Rates

Commerce has determined, and U.S. Customs and Border Protection (CBP) shall assess, antidumping duties on all appropriate entries of subject merchandise in accordance with section 751(a)(2)(C) of the Act and 19 CFR 351.212(b).

Pursuant to 19 CFR 351.212(b)(1), and given that SIW reported entered values for all of its U.S. sales, we calculated importer-specific ad valorem duty assessment rates based on the ratio of the total amount of dumping calculated for the examined sales to the total entered value of the sales. Where an importer-specific assessment rate is de minimis within the meaning of 19 CFR 351.106(c)(1) (i.e., less than 0.5 percent), we intend to instruct CBP to liquidate the appropriate entries without regard to antidumping duties.

Consistent with Commerce's clarification of its assessment practice, for entries of subject merchandise during the POR produced by SIW for which it did not know that the merchandise was destined for the United States, we will instruct CBP to liquidate those entries at the all-others rate in the original less-than-fair-value (LTFV) investigation ⁵ if there is no rate for the intermediate company(ies) involved in the transaction.⁶

⁵ Id.

⁶ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of PC strand from Thailand entered, or withdrawn from warehouse, for consumption on or after the date of publication of the final results of this administrative review as provided by section 751(a)(2) of the Act: (1) the cash deposit rate for SIW will be equal to the weighted-average dumping margin established in the final results of this review; (2) for producers or exporters not covered in this review but covered in a prior completed segment of the proceeding, the cash deposit rate will continue to be the company-specific rate published in the most recently completed segment; (3) if the exporter is not a firm covered in this review, a prior review, or the original LTFV investigation, but the producer is, then the cash deposit rate will be the rate established in the most recently completed segment for the producer of the merchandise; (4) the cash deposit rate for all other producers or exporters will continue to be 12.91 percent, the all-others rate established in the LTFV investigation in this proceeding.⁷ These cash deposit requirements, when imposed, shall remain in effect until further notice.

⁷ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a) and 777(i) of the Act, and 19 CFR 351.221(b)(5).

Dated: August 1, 2022.
Abdelali Elouaradia,
Deputy Assistant Secretary for Enforcement and Compliance.

Appendix—List of Topics Discussed in the Issues and Decision Memorandum

I. Summary

II. Background

III. Scope of the Order

IV. Discussion of the Issues

Comment 1: SIW's U.S. Sales Reconciliation

Comment 2: Whether SIW Acted to the Best of Its Ability

V. Recommendation

[FR Doc. 2022-16917 Filed 8-5-22; 8:45 am]

BILLING CODE 3510-DS-P